NUCLEAR REGULATORY COMMISSION

[NRC-2009-0220]

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from May 7, 2009 to May 20, 2009. The last biweekly notice was published on May 19, 2009 (73 FR 370501).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch, TWB-05-B01M, Division of Administrative Services, Office of Administration, U.S. Nuclear Regulatory Commission, Washington, DC 20555-0001, and should cite the publication date and page number of this Federal Register notice. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer ™ to access the Electronic Information Exchange (EIE), a component of the E-Filing system. The Workplace Forms Viewer ™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC Meta-System Help Desk, which is available between 8 a.m. and 8 p.m., Eastern Time, Monday through Friday. The Meta-System Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Calvert Cliffs Nuclear Power Plant, Inc., Docket Nos. 50-317 and 50-318, Calvert Cliffs Nuclear Power Plant, Unit Nos. 1 and 2, Calvert County, Maryland

Date of amendments request: April 23, 2009.

Description of amendments request: The amendment would delete those portions of the Technical Specifications (TSs) superseded by Title 10 of the Code of Federal Regulations (10 CFR) Part 26, Subpart I. This change is consistent with Nuclear Regulatory Commission approved Revision 0 to Technical Specification Task Force Improved Standard Technical Specification Change Traveler, TSTF 511, “Eliminate Working Hour Restrictions from TS 5.2.2 to Support Compliance with 10 CFR Part 26.” The availability of this TS improvement was announced in the Federal Register on December 30, 2008 (73 FR 79923) as part of the Consolidated Line Item Improvement Process.

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety-related functions. The Technical Specification restrictions are superseded by the worker fatigue requirements in 10 CFR Part 26. Removal of the Technical Specification requirements will be performed concurrently with the implementation of the 10 CFR Part 26, Subpart I requirements. The proposed change does not impact the physical configuration or function of plant structures, systems, or components or the manner in which structures, systems, or components are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety-related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety-related functions. The Technical Specification restrictions are superseded by the worker fatigue requirements in 10 CFR Part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition. Removal of plant-specific Technical Specification administrative requirements will not reduce a margin of safety because the requirements in 10 CFR Part 26 are adequate to ensure that worker fatigue is managed. Therefore, the proposed change does not involve a significant reduction in a margin of safety.

The NRC staff has reviewed the licensee's analysis and, based on this review, it appears that the three standards of 10 CFR 50.92(c) are satisfied. Therefore, the NRC staff proposes to determine that the amendments request involves no significant hazards consideration.

Attorney for licensee: Carey Fleming, Sr. Counsel—Nuclear Generation, Constellation Generation Group, LLC, 750 East Pratt Street, 17th Floor, Baltimore, MD 21202.

NRC Acting Branch Chief: John Boska.

Carolina Power & Light Company, et al., Docket No. 50-400, Shearon Harris Nuclear Power Plant, Unit 1, Wake and Chatham Counties, North Carolina

Date of amendment request: February 26, 2009.

Description of amendment request: The proposed amendment would delete the Technical Specifications (TS) requirements related to hydrogen recombiners and hydrogen monitors. The proposed TS changes support implementation of the revisions to 10 CFR 50.44, “Standards for Combustible Gas Control System in Light-Water-Cooled Power Reactors,” which became effective on October 16, 2003. These changes are consistent with Revision 1 of the NRC-approved Technical Specifications Task Force (TSTF) Standard Technical Specifications Change Traveler, TSTF-447, “Elimination of Hydrogen Recombiners and Change to Hydrogen and Oxygen Monitors.”

The NRC staff issued a notice of opportunity for public comments on TSTF-447, Revision 1 in the Federal Register on August 2, 2002 (67 FR 50374), soliciting comments on a model safety evaluation and a model no significant hazards consideration (NSHC) determination for the elimination of requirements for hydrogen recombiners, and hydrogen and oxygen monitors from the TS. Based on its evaluation of the public comments received, the NRC staff made appropriate changes to the models and included final versions in a notice of availability published in the Federal Register on September 25, 2003 (68 FR 55416), regarding the adoption of TSTF-447, Revision 1, as part of the NRC's consolidated line item improvement process. The licensee affirmed the applicability of the model NSHC determination in its application dated February 26, 2009.

Basis for proposed no significant hazards consideration determination: As required by 10 CFR 50.91(a), an analysis of the issue of NSHC adopted by the licensee is presented below:

Criterion 1—The Proposed Change Does Not Involve a Significant Increase in the Probability or Consequences of an Accident Previously Evaluated

The revised 10 CFR 50.44 no longer defines a design-basis loss-of-coolant accident (LOCA) hydrogen release, and eliminates requirements for hydrogen control systems to mitigate such a release. The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage. In addition, these systems were ineffective at mitigating hydrogen releases from risk-significant accident sequences that could threaten containment integrity.

With the elimination of the design-basis LOCA hydrogen release, hydrogen monitors are no longer required to mitigate design-basis accidents and, therefore, the hydrogen monitors do not meet the definition of a safety-related component as defined in 10 CFR 50.2. RG [Regulatory Guide] 1.97 Category 1 is intended for key variables that most directly indicate the accomplishment of a safety function for design-basis accident events. The hydrogen monitors no longer meet the definition of Category 1 in RG 1.97. As part of the rulemaking to revise 10 CFR 50.44 the Commission found that Category 3, as defined in RG 1.97, is an appropriate categorization for the hydrogen monitors because the monitors are required to diagnose the course of beyond design-basis accidents.

The regulatory requirements for the hydrogen monitors can be relaxed without degrading the plant emergency response. The emergency response, in this sense, refers to the methodologies used in ascertaining the condition of the reactor core, mitigating the consequences of an accident, assessing and projecting offsite releases of radioactivity, and establishing protective action recommendations to be communicated to offsite authorities. Classification of the hydrogen monitors as Category 3 and removal of the hydrogen monitors from TS will not prevent an accident management strategy through the use of the SAMGs [severe accident management guidelines], the emergency plan (EP), the emergency operating procedures (EOP), and site survey monitoring that support modification of emergency plan protective action recommendations (PARs).

Therefore, the elimination of the hydrogen recombiners and relaxation of the hydrogen monitor requirements, including removal of these requirements from TS, does not involve a significant increase in the probability or consequences of an accident previously evaluated.

Criterion 2—The Proposed Change Does Not Create the Possibility of a New or Different Kind of Accident From Any Previously Evaluated

The elimination of the hydrogen recombiner requirements and relaxation of the hydrogen monitor requirements, including removal of these requirements from TS, will not result in any failure mode not previously analyzed. The hydrogen recombiner and hydrogen monitor equipment was intended to mitigate a design-basis hydrogen release. The hydrogen recombiner and hydrogen monitor equipment are not considered accident precursors, nor does their existence or elimination have any adverse impact on the pre-accident state of the reactor core or post accident confinement of radionuclides within the containment building.

Therefore, this change does not create the possibility of a new or different kind of accident from any previously evaluated.

Criterion 3—The Proposed Change Does Not Involve a Significant Reduction in the Margin of Safety.

The elimination of the hydrogen recombiner requirements and relaxation of the hydrogen monitor requirements, including removal of these requirements from TS, in light of existing plant equipment, instrumentation, procedures, and programs that provide effective mitigation of and recovery from reactor accidents, results in a neutral impact to the margin of safety.

The installation of hydrogen recombiners and/or vent and purge systems required by 10 CFR 50.44(b)(3) was intended to address the limited quantity and rate of hydrogen generation that was postulated from a design-basis LOCA. The Commission has found that this hydrogen release is not risk-significant because the design-basis LOCA hydrogen release does not contribute to the conditional probability of a large release up to approximately 24 hours after the onset of core damage.

Category 3 hydrogen monitors are adequate to provide rapid assessment of current reactor core conditions and the direction of degradation while effectively responding to the event in order to mitigate the consequences of the accident. The intent of the requirements established as a result of the TMI [Three Mile Island], Unit 2 accident, can be adequately met without reliance on safety-related hydrogen monitors.

Therefore, this change does not involve a significant reduction in the margin of safety. Removal of hydrogen monitoring from TS will not result in a significant reduction in their functionality, reliability, and availability.

The NRC staff has reviewed the analysis adopted by the licensee and, based on this review, it appears that the three standards of 10 CFR 50.92(c) are satisfied. Therefore, the NRC staff proposes to determine that the request for amendments involves NSHC.

Attorney for licensee: David T. Conley, Associate General Counsel II—Legal Department, Progress Energy Service Company, LLC, Post Office Box 1551, Raleigh, North Carolina 27602.

NRC Branch Chief: Thomas H. Boyce.

Duke Energy Carolinas, LLC, et al., Docket Nos. 50-413 and 50-414, Catawba Nuclear Station, Units 1 and 2, York County, South Carolina

Date of amendment request: July 14, 2008.

Description of amendment request: The proposed amendments would modify the Technical Specifications (TSs) to establish more effective and appropriate action, surveillance, and administrative requirements related to ensuring the habitability of the control room envelope (CRE) in accordance with Nuclear Regulatory Commission (NRC)-approved TS Task Force (TSTF) Standard Technical Specification change traveler TSTF-448, Revision 3, “Control Room Habitability.” Specifically, the proposed amendments would revise TS 3.7.10, “Control Room Area Ventilation,” and TS Section 5.5, “Programs and Manuals.” The NRC staff issued a “Notice of Availability of Technical Specification Improvement to Modify Requirements Regarding Control Room Envelope Habitability Using the Consolidated Line Item Improvement Process” associated with TSTF-448, Revision 3, in the Federal Register on January 17, 2007 (72 FR 2022). The notice included a model safety evaluation, a model no significant hazards consideration (NSHC) determination and a model license amendment request. In its application dated July 14, 2008, the licensee affirmed the applicability of the model NSHC determination which is presented below.

Implementation of the proposed amendment to the TSs will impact the Updated Final Safety Analysis Report (UFSAR). As a result, it will be necessary to revise various sections of the UFSAR in accordance with 10 CFR 50.71(e).

Basis for proposed no significant hazards consideration determination: As required by 10 CFR 50.91(a), the licensee has provided its analysis of the issue of NSHC consideration, which is presented below:

Criterion 1—The Proposed Change Does Not Involve a Significant Increase in the Probability or Consequences of an Accident Previously Evaluated

The proposed change does not adversely affect accident initiators or precursors nor alter the design assumptions, conditions, or configuration of the facility. The proposed change does not alter or prevent the ability of structures, systems, and components (SSCs) to perform their intended function to mitigate the consequences of an initiating event within the assumed acceptance limits. The proposed change revises the TS for the CRE emergency ventilation system, which is a mitigation system designed to minimize unfiltered air leakage into the CRE and to filter the CRE atmosphere to protect the CRE occupants in the event of accidents previously analyzed. An important part of the CRE emergency ventilation system is the CRE boundary. The CRE emergency ventilation system is not an initiator or precursor to any accident previously evaluated. Therefore, the probability of any accident previously evaluated is not increased. Performing tests to verify the operability of the CRE boundary and implementing a program to assess and maintain CRE habitability ensure that the CRE emergency ventilation system is capable of adequately mitigating radiological consequences to CRE occupants during accident conditions, and that the CRE emergency ventilation system will perform as assumed in the consequence analyses of design basis accidents. Thus, the consequences of any accident previously evaluated are not increased. Therefore, the proposed change does not involve a significant increase in the probability or consequences of an accident previously evaluated.

Criterion 2—The Proposed Change Does Not Create the Possibility of a New or Different Kind of Accident from any Accident Previously Evaluated

The proposed change does not impact the accident analysis. The proposed change does not alter the required mitigation capability of the CRE emergency ventilation system, or its functioning during accident conditions as assumed in the licensing basis analyses of design basis accident radiological consequences to CRE occupants. No new or different accidents result from performing the new surveillance or following the new program. The proposed change does not involve a physical alteration of the plant (i.e., no new or different type of equipment will be installed) or a significant change in the methods governing normal plant operation. The proposed change does not alter any safety analysis assumptions and is consistent with current plant operating practice.

Therefore, this change does not create the possibility of a new or different kind of accident from any accident previously evaluated.

Criterion 3—The Proposed Change Does Not Involve a Significant Reduction in the Margin of Safety

The proposed change does not alter the manner in which safety limits, limiting safety system settings or limiting conditions for operation are determined. The proposed change does not affect safety analysis acceptance criteria. The proposed change will not result in plant operation in a configuration outside the design basis for an unacceptable period of time without compensatory measures. The proposed change does not adversely affect systems that respond to safely shut down the plant and to maintain the plant in a safe shutdown condition. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Associate General Counsel and Managing Attorney, Duke Energy Carolinas, LLC, 526 South Church Street, EC07H, Charlotte, NC 28202.

NRC Branch Chief: Melanie C. Wong.

Entergy Operations, Inc., Docket No. 50-313, Arkansas Nuclear One, Unit No. 1, Pope County, Arkansas.

Entergy Operations, Inc., Docket No. 50-368, Arkansas Nuclear One, Unit No. 2, Pope County, Arkansas.

Entergy Operations, Inc., System Energy Resources, Inc., South Mississippi Electric Power Association, and Entergy Mississippi, Inc., Docket No. 50-416, Grand Gulf Nuclear Station, Unit 1, Claiborne County, Mississippi.

Entergy Nuclear Operations, Inc., Docket No. 50-333, James A. FitzPatrick Nuclear Power Plant, Oswego County, New York.

Entergy Nuclear Operations, Inc., Docket Nos. 50-247 and 50-286, Indian Point Nuclear Generating Unit Nos. 2 and 3, Westchester County, New York.

Entergy Nuclear Operations, Inc., Docket No. 50-255, Palisades Plant, Van Buren County, Michigan.

Entergy Nuclear Operations, Inc., Docket No. 50-293, Pilgrim Nuclear Power Station, Plymouth County, Massachusetts.

Entergy Gulf States Louisiana, LLC, and Entergy Operations, Inc., Docket No. 50-458, River Bend Station, Unit 1, West Feliciana Parish, Louisiana.

Entergy Operations, Inc., Docket No. 50-382, Waterford Steam Electric Station, Unit 3, St. Charles Parish, Louisiana.

Date of amendment request: April 27, 2009.

Description of amendment request: The proposed changes would delete those portions of Technical Specifications (TSs) superseded by Title 10 of the Code of Federal Regulations (10 CFR) Part 26, Subpart I, consistent with U.S. Nuclear Regulatory Commission (NRC)-approved TS Task Force (TSTF) traveler TSTF-511, “Eliminate Working Hour Restrictions from TS 5.2.2 to Support Compliance with 10 CFR Part 26.”

The NRC issued a “Notice of Availability of Model Safety Evaluation, Model No Significant Hazards Determination, and Model Application for Licensees That Wish To Adopt TSTF-511, Revision 0, ‘Eliminate Working Hour Restrictions From TS 5.2.2 To Support Compliance With 10 CFR Part 26’ ” in the Federal Register on December 30, 2008 (73 FR 79923). In its application dated April 27, 2009, the licensee affirmed the applicability of the model no significant hazards consideration.

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR 26. Removal of the Technical Specification requirements will be performed concurrently with the implementation of the 10 CFR 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated. The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition. Removal of plant-specific Technical Specification administrative requirements will not reduce a margin of safety because the requirements in 10 CFR 26 are adequate to ensure that worker fatigue is managed.

Therefore, the proposed change does not involve a significant reduction in a margin of safety.

The NRC staff has reviewed the analysis adopted by the licensee and, based on this review, it appears that the three standards of 10 CFR 50.92(c) are satisfied. Therefore, the NRC staff proposes to determine that the amendment request involves no significant hazards consideration.

Attorneys for licensee: Terence A. Burke, Associate General Counsel—Nuclear Entergy Services, Inc., 1340 Echelon Parkway, Jackson, Mississippi 39213.

William C. Dennis, Assistant General Counsel, Entergy Nuclear Operations, Inc., 400 Hamilton Avenue, White Plains, NY 10601.

NRC Branch Chief: Michael T. Markley.

Entergy Operations, Inc., Docket No. 50-368, Arkansas Nuclear One, Unit No. 2, Pope County, Arkansas

Date of amendment request: March 2, 2009.

Description of amendment request: The proposed change will modify Technical Specification (TS) 3.3.1.1, “Reactor Protective Instrumentation,” and TS 3.3.2.1, “Engineered Safety Feature Actuation System Instrumentation.” Specifically, Table 3.3-1, Table 4.3-1, and Table 3.3-3, respectively, will adopt a Mode of Applicability for the Logarithmic (Log) Power Level High, Pressurizer Pressure Low, Steam Generator (SG) Pressure Low, and the SG Differential Pressure and Level Low functions to be consistent with the improved Standard TSs (STS) of NUREG-1432, Revision 3,¹ “Standard Technical Specifications, Combustion Engineering Plants.”

¹ Incorrectly referred to as “Revision 3.1” in the Entergy Operations, Inc. March 2, 2009, application.

Basis for proposed no significant hazards consideration determination: As required by 10 CFR 50.91(a), the licensee has provided its analysis of the issue of no significant hazards consideration, which is presented below:

1. Does the proposed change involve a significant increase in the probability or consequences of an accident previously evaluated?

Response: No.

The proposed change acts to reconcile a difference between Emergency Feedwater (EFW) TS 3.7.1.2 and Table 3.3-3 of TS 3.3.3.2, or differences between the current ANO-2 [Arkansas Nuclear One, Unit 2] TSs and the STS in relation to Reactor Protective System (RPS) or ESFAS functions. The TS 3.7.1.2 Mode of Applicability for EFW is based on plant design basis. Revising the associated actuation instrumentation Mode of Applicability to match that of TS 3.7.1.2 will continue to ensure that automatic actuation of the EFW system will occur during any Mode 1, 2, or 3 event that results in a Steam Generator (SG) actuation setpoint being reached. The change is not associated with any accident precursor or initiator. EFW will continue to be automatically actuated and capable of a supporting plant cooldown through to Mode 4, where the Shutdown Cooling (SDC) system may be placed in service for decay heat removal purposes. Upon a loss of SDC, EFW may be manually initiated (if available) or a back-up source of SG makeup can be placed in service, such as the non-safety Auxiliary Feedwater (AFW) pump or other non-safety Main Feedwater (MFW) system pumps. These non-safety pumps can be powered from the onsite Alternate AC [Alternating Current] Diesel Generator should a loss of offsite power event occur.

Changes to the Modes of Applicability for the Log Power Level High, Pressurizer Pressure Low, and SG Pressure Low reactor trip functions do not involve physical plant changes or changes to the current safety analysis. These functions will continue to provide their respective protective feature in the operational modes consistent with the design basis and STS. None of these functions are associated with accident precursors.

Therefore, the proposed change does not involve a significant increase in the probability or consequences of an accident previously evaluated.

2. Does the proposed change create the possibility of a new or different kind of accident from any accident previously evaluated?

Response: No.

The proposed change does not result in any plant modifications or change in the way the plant is designed to function. The proposed change is not associated with any accident precursor or initiator.

Therefore, the proposed change does not create the possibility of a new or different kind of accident from any previously evaluated.

3. Does the proposed change involve a significant reduction in a margin of safety?

Response: No.

EFW will continue to be automatically actuated and capable of supporting a plant cooldown to Mode 4, where the Shutdown Cooling (SDC) system may be placed in service for decay heat removal purposes. Upon a loss of SDC, EFW may be manually initiated (if available) or a back-up source of SG makeup can be placed in service, such as the non-safety Auxiliary Feedwater (AFW) pump or other non-safety Main Feedwater (MFW) system pumps. These non-safety pumps can be powered from the onsite Alternate AC Diesel Generator should a loss of offsite power event occur.

Changes to the Modes of Applicability for the Log Power Level High, Pressurizer Pressure Low, and SG Pressure Low reactor trip functions do not involve physical plant changes or changes to the current safety analysis. These functions will continue to provide their respective protective feature in the operational modes consistent with the design basis and STS.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Terence A. Burke, Associate General Council—Nuclear Entergy Services, Inc., 1340 Echelon Parkway, Jackson, Mississippi 39213.

NRC Branch Chief: Michael T. Markley.

FPL Energy Seabrook, LLC, Docket No. 50-443, Seabrook Station, Unit No.1, Rockingham County, New Hampshire

Date of amendment request: April 16, 2009.

Description of amendment request: The proposed change is that Facility Operating License NPF-86 for Seabrook Station be amended to reflect a change in the legal name of the Licensee and Co-owner from “FPL Energy Seabrook, LLC” to “NextEra Energy Seabrook, LLC.”

Basis for proposed no significant hazards consideration (NSHC) determination: As required by 10 CFR 50.91(a), the licensee has provided its analysis of the issue of no significant hazards consideration, which is presented below:

1. The proposed changes do not involve a significant increase in the probability or consequences of an accident previously evaluated.

This request is for administrative changes only. No actual facility equipment or accident analyses will be affected by the proposed changes. Therefore, this request has no impact on the probability or consequences of an accident previously evaluated.

2. The proposed changes do not create the possibility of a new or different kind of accident from any previously evaluated.

This request is for administrative changes only. No actual facility equipment or accident analyses will be affected by the proposed changes and no failure modes not bounded by previously evaluated accidents will be created. Therefore, this request does not create the possibility of a new or different kind of accident from any accident previously evaluated.

3. The proposed changes do not involve a significant reduction in the margin of safety.

Margin of safety is associated with confidence in the ability of the fission product barriers (i.e., fuel cladding, reactor coolant system pressure boundary, and containment structure) to limit the level of radiation dose to the public. This request is for administrative changes only. No actual plant equipment or accident analyses will be affected by the proposed changes. Additionally, the proposed changes will not relax any criteria used to establish safety limits, will not relax any safety system settings, and will not relax the bases for any limiting conditions of operation. Therefore, these proposed changes do not involve a significant reduction in a margin of safety.

The NRC staff has reviewed the licensee's analysis, and based on this review, it appears that the three standards of 50.92(c) are satisfied. Therefore, the NRC staff proposes to determine that the amendment request involves no significant hazards consideration.

Attorney for licensee: M. S. Ross, Florida Power & Light Company, P.O. Box 14000, Juno Beach, FL 33408-0420.

NRC Section Chief: Harold Chernoff.

PPL Susquehanna, LLC, Docket Nos. 50-387 and 50-388, Susquehanna Steam Electric Station, Units 1 and 2 (SSES Units 1 and 2), Luzerne County, Pennsylvania

Date of amendment request: March 24, 2009, as supplemented by letters dated April 30 and May 12, 2009.

Description of amendment request: The proposed amendments would change the SSES Units 1 and 2 Technical Specifications (TSs) 3.8.1 for AC Sources—Operating, to extend the allowable Completion Time for the Required Actions associated with one offsite circuit inoperable due to the replacement of Startup Transformer Number 20 (ST No. 20). The proposed change to SSES Units 1 and 2 TS would allow for a one-time only extension of limiting condition for operation 3.8.1 Action A. 3 to 10 days during replacement of ST No. 20, while both units remain at power.

Basis for proposed no significant hazards consideration determination: As required by 10 CFR 50.91(a), the licensee has provided its analysis of the issue of no significant hazards consideration, which is presented below:

1. Does the proposed change involve a significant increase in the probability or consequences of an accident previously evaluated?

Response: No.

The proposal would change the Technical Specifications 3.8.1, “AC Sources—Operating,” to extend, on a one-time basis, the allowable Completion Time for Required Action A.3, from 72 hours to 10 days.

The consequence of a loss of offsite power (LOOP) event has been evaluated in the FSAR [final safety analysis report] and the Station Blackout evaluation. Increasing the completion time for one offsite power source from 72 hours to 10 days does not increase the consequences of a LOOP event nor change the evaluation of LOOP events as stated in the FSAR or Station Blackout evaluation.

The proposed one-time only change to the TS 3.8.1 Required Action A.3 Completion does not, of [by] itself, result in an increase in the risk of plant operation. The incremental conditional core damage probability (ICCDP) and incremental conditional large early release probability (ICLERP) do not exceed the regulatory guidance thresholds for these values.

Therefore, this proposal does not involve a significant increase in the probability or consequences of an accident previously evaluated.

2. Does the proposed change create the possibility of a new or different kind of accident from any accident previously evaluated?

Response: No.

The proposed change does not result in a change in the manner in which the electrical distribution subsystems provide plant protection. The change does not alter assumptions made in the safety analysis. Allowing the completion time for Action A.3 to increase from 72 hours to 10 days is a one-time change that will allow continued operation of Unit 1 and 2 while replacing ST No. 20.

The accident analyses affected by this proposed change are the LOOP events discussed in the FSAR. The proposed change is consistent with the safety analysis assumptions and current plant operating practice. The potential for the loss of other plant systems or equipment to mitigate the effects of an accident is not altered.

Thus, this change does not create the possibility of a new or different kind of accident from any accident previously evaluated.

3. Does the proposed change involve a significant reduction in a margin of safety?

Response: No.

The proposed change does not affect the acceptance criteria for any analyzed event nor is there a change to any Safety Limit. There will be no effect on the manner in which safety limits, limiting safety system settings, or limiting conditions for operation are determined nor [would there be] any effect on those plant systems necessary to assure the accomplishment of protection functions. There will be no impact on the Safety Limits or any other margin of safety. The radiological dose consequence acceptance criteria will continue to be met.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Bryan A. Snapp, Esquire, Assoc. General Counsel, PPL Services Corporation, 2 North Ninth St., GENTW3, Allentown, PA 18101-1179.

NRC Acting Branch Chief : John P. Boska.

PSEG Nuclear LLC, Docket Nos. 50-272 and 50-311, Salem Nuclear Generating Station, Unit Nos. 1 and 2, Salem County, New Jersey

Date of amendment request: March 22, 2009.

Description of amendment request: The proposed amendment would revise the definition of the fully withdrawn position of the Rod Cluster Control Assemblies (RCCAs) to minimize localized RCCA wear. Currently, the fully withdrawn position for the RCCAs is defined in the Technical Specifications (TSs) as being within the interval of 222 to 228 steps withdrawn (i.e., steps above rod bottom). The proposed change would allow the fully withdrawn position to be defined as being within the interval of 222 to 230 steps withdrawn.

Basis for proposed no significant hazards consideration determination: As required by 10 CFR 50.91(a), the licensee has provided its analysis of the issue of no significant hazards consideration, which is presented below:

1. Do the proposed changes involve a significant increase in the probability or consequences of an accident previously evaluated?

Response: No.

The revised RCCA definition of FULLY WITHDRAWN will not result in any design or regulatory limit being exceeded with respect to the safety analyses documented in the [Updated Final Safety Analysis Report (UFSAR)]. The change has been evaluated to determine the effect on reactor physics, transient analysis (Non-[loss-of-coolant accident (LOCA)]), LOCA analysis, and mechanical operation of the RCCAs. The evaluations have determined that the reload analysis and assumed control rod drop time parameters remain bounding. The specific FULLY WITHDRAWN position will be specified in the reload analysis for each operating cycle. Prior to each operating cycle the actual rod drop times are required to be confirmed as less than or equal to 2.7 seconds per TS Surveillance 4.1.3.3. In addition, since the change does not impact any conditions that would initiate a transient, the probability of previously analyzed events is not increased. Also, RCCA repositioning will reduce the possibility of rod cladding failure, thereby minimizing the chance of absorber material being introduced into the reactor coolant system. Therefore, the proposed changes will not significantly increase the probability or consequences of an accident previously evaluated.

2. Do the proposed changes create the possibility of a new or different kind of accident from any accident previously evaluated?

Response: No.

The RCCAs will continue to meet their functional requirements and will perform as designed during design basis events. The RCCAs will remain inserted in the guide thimbles of the fuel assemblies during operation with the proposed withdrawal limits; therefore their performance is unaffected by this change. The RCCAs will maintain their mechanical integrity and remain structurally intact during a design basis event. The effect of periodically repositioning the RCCAs is bounded by the analyses in the UFSAR. Also, RCCA repositioning will reduce the possibility of rod cladding failure, thereby minimizing the chance of absorber material being introduced into the reactor coolant system. Therefore the proposed change will not create a new or different kind of accident [from any accident previously evaluated].

3. Do the proposed changes involve a significant reduction in a margin of safety?

Response: No.

The revised RCCA FULLY WITHDRAWN definition has an insignificant effect on control rod drop time. The rod drop time will continue to be bounded by that assumed in the UFSAR and required by TS. Prior to each operating cycle the actual rod drop times are required to be confirmed as less than or equal to 2.7 seconds per TS 4.1.3.3. No change is being made to the lowest allowable position; therefore prior assessments regarding minimal rod insertion into the active fuel region remain applicable and unchanged.

Consequently, there is no impact on previously analyzed conditions for both axial and radial power distributions, critical boron concentrations and temperature dependent shutdown margins. Therefore, the proposed change does not involve a significant reduction in any safety margin.

The NRC staff has reviewed the licensee's analysis and, based on this review, with changes in the areas noted above, it appears that the three standards of 10 CFR 50.92(c) are satisfied. Therefore, the NRC staff proposes to determine that the amendment request involves no significant hazards consideration.

Attorney for licensee: Jeffrie J. Keenan, Esquire, Nuclear Business Unit—N21, P.O. Box 236, Hancocks Bridge, NJ 08038.

NRC Branch Chief: Harold K. Chernoff.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Arizona Public Service Company, et al., Docket Nos. STN 50-528, STN 50-529, and STN 50-530, Palo Verde Nuclear Generating Station, Unit Nos. 1, 2, and 3, Maricopa County, Arizona

Date of application for amendment: January 15, 2009.

Brief description of amendment: The amendments modified Technical Specifications (TSs) 3.3.10, 3.6.7, and 5.6.6 to delete the requirements related to hydrogen recombiners and hydrogen monitors. The TS changes support implementation of the revisions to 10 CFR 50.44, “Combustible gas control system for nuclear power reactors,” that became effective on October 16, 2003. The changes are consistent with Revision 1 of the NRC-approved Industry/Technical Specification Task Force (TSTF) Standard Technical Specification Change Traveler, TSTF-447, “Elimination of Hydrogen Recombiners and Change to Hydrogen and Oxygen Monitors.”

Date of issuance: May 14, 2009.

Effective date: As of the date of issuance and shall be implemented within 90 days from the date of issuance.

Amendment No.: Unit 1-173; Unit 2-173; Unit 3-173.

Facility Operating License Nos. NPF-41, NPF-51, and NPF-74: The amendment revised the Operating Licenses and Technical Specifications.

Date of initial notice in Federal Register: March 10, 2009 (74 FR 10307).

The Commission's related evaluation of the amendments is contained in a Safety Evaluation dated May 14, 2009.

No significant hazards consideration comments received: No.

Carolina Power & Light Company, Docket Nos. 50-325 and 50-324, Brunswick Steam Electric Plant, Units 1 and 2, Brunswick County, North Carolina

Date of application for amendments: October 6, 2008.

Brief Description of amendments: The amendments remove work hour controls and/or references to the NRC Generic Letter 82-12 from the administrative control sections of the technical specifications. On April 17, 2007, the NRC approved a final rule that amended 10 CFR Part 26 and, among other changes, established requirements for managing worker fatigue at operating nuclear power plants. Subpart I, “Managing Fatigue,” of 10 CFR Part 26 specifically addresses managing worker fatigue by designating individual break requirements, work hour limits, and annual reporting requirements. Subpart I was published in the Federal Register on March 31, 2008 (73 FR 16966), with a required implementation period of 18 months. Compliance is, therefore, required by October 1, 2009. In order to support compliance with 10 CFR Part 26, Subpart I, the licensee is proposing to remove these work hour controls from Technical Specification 5.2.2.e at the Brunswick Steam Electric Plant, Units 1 and 2.

Date of issuance: May 7, 2009.

Effective date: As of the date of issuance and shall be implemented no later than October 1, 2009.

Amendment Nos.: 253 and 281.

Facility Operating License Nos. DPR-71 and DPR-62: Amendments change the technical specifications.

Date of initial notice in Federal Register: January 27, 2009 (74 FR 4767).

The Commission's related evaluation of the amendments is contained in a safety evaluation dated May 7, 2009.

No significant hazards consideration comments received: No.

Carolina Power & Light Company, et al., Docket No. 50-400, Shearon Harris Nuclear Power Plant, Unit 1, Wake and Chatham Counties, North Carolina

Date of application for amendment: October 6, 2009.

Brief description of amendment: The amendment removes work hour controls and/or references to the NRC Generic Letter 82-12 from the administrative control sections of the technical specifications. On April 17, 2007, the NRC approved a final rule that amended 10 CFR Part 26 and, among other changes, established requirements for managing worker fatigue at operating nuclear power plants. Subpart I, “Managing Fatigue,” of 10 CFR Part 26 specifically addresses managing worker fatigue by designating individual break requirements, work hour limits, and annual reporting requirements. Subpart I was published in the Federal Register on March 31, 2008 (73 FR 16966), with a required implementation period of 18 months. Compliance is, therefore, required by October 1, 2009. In order to support compliance with 10 CFR Part 26, Subpart I, the licensee is proposing to remove these work hour controls from Technical Specification 6.2.2.f at the Shearon Harris Nuclear Power Plant, Unit 1.

Date of issuance: May 7, 2009.

Effective date: Date of issuance, to be implemented by October 1, 2009.

Amendment No.: 130.

Renewed Facility Operating License No. NPF-63: The amendment revises the technical specifications and facility operating license.

Date of initial notice in Federal Register: January 27, 2009 (74 FR 4769).

The Commission's related evaluation of the amendment is contained in a safety evaluation dated May 7, 2009.

No significant hazards consideration comments received: No.

Carolina Power & Light Company, Docket No. 50-261, H. B. Robinson Steam Electric Plant, Unit No. 2, Darlington County, South Carolina

Date of application for amendment: October 6, 2009.

Brief description of amendment: The amendment removes work hour controls and/or references to the NRC Generic Letter 82-12 from the administrative control sections of the technical specifications. On April 17, 2007, the NRC approved a final rule that amended 10 CFR Part 26 and, among other changes, established requirements for managing worker fatigue at operating nuclear power plants. Subpart I, “Managing Fatigue,” of 10 CFR Part 26 specifically addresses managing worker fatigue by designating individual break requirements, work hour limits, and annual reporting requirements. Subpart I was published in the Federal Register on March 31, 2008 (73 FR 16966), with a required implementation period of 18 months. Compliance is, therefore, required by October 1, 2009. In order to support compliance with 10 CFR Part 26, Subpart I, the licensee is proposing to remove these work hour controls from Technical Specification 5.2.2.e at the H. B. Robinson Steam Electric Plant, Unit 2.

Date of issuance: May 7, 2009.

Effective date: Effective as of the date of issuance and shall be implemented no later than October 1, 2009.

Amendment No.: 221.

Renewed Facility Operating License No. DPR-23: The amendment revises the technical specifications and facility operating license.

Date of initial notice in Federal Register: January 27, 2009 (74 FR 4768).

The Commission's related evaluation of the amendment is contained in a safety evaluation dated May 7, 2009.

Public comments received as to proposed no significant hazards consideration (NSHC): No.

Exelon Generation Company, LLC, Docket Nos. STN 50-456 and STN 50-457, Braidwood Station, Units 1 and 2 (Braidwood), Will County, Illinois Docket Nos. STN 50-454 and STN 50-455, Byron Station, Unit Nos. 1 and 2 (Byron), Ogle County, Illinois.

Date of application for amendment: June 26, 2008.

Brief description of amendment: The amendments revise Technical Specification Surveillance Requirements 3.8.1.7, 3.8.1.12, 3.8.1.15, and 3.8.1.20 for the Braidwood and Byron emergency diesel generator (EDG) start time. The current requirement is to have the EDG within voltage and frequency limits within 10 seconds after the start signal. The revised change is to have the EDG above minimum voltage and frequency within 10 seconds and verified to be within voltage and frequency limits at steady state conditions. The revision is consistent with Technical Specification Task Force (TSTF) Standard Change Traveler, TSTF-163, “Minimum vs. Steady State Voltage and Frequency,” Revision 2.

Date of issuance: May 11, 2009.

Effective date: As of the date of issuance and shall be implemented within 60 days.

Amendment Nos.: Braidwood Unit 1-159; Braidwood Unit 2-159; Byron Unit No. 1-164; and Byron Unit No. 2-164.

Facility Operating License Nos. NPF-72, NPF-77, NPF-37, and NPF-66: The amendments revise the TSs and Licenses.

Date of initial notice in Federal Register: August 26, 2008 (73 FR 50360).

The Commission's related evaluation of the amendments is contained in a Safety Evaluation dated May 11, 2009.

No significant hazards consideration comments received: No.

Florida Power Corporation, et al., Docket No. 50-302, Crystal River Unit No. 3 Nuclear Generating Plant, Citrus County, Florida

Date of application for amendment: October 6, 2008.

Brief description of amendment: The amendment removes work hour controls and/or references to the NRC Generic Letter 82-12 from the administrative control sections of the technical specifications. On April 17, 2007, the NRC approved a final rule that amended 10 CFR Part 26 and, among other changes, established requirements for managing worker fatigue at operating nuclear power plants. Subpart I, “Managing Fatigue,” of 10 CFR Part 26 specifically addresses managing worker fatigue by designating individual break requirements, work hour limits, and annual reporting requirements. Subpart I was published in the Federal Register on March 31, 2008 (73 FR 16966), with a required implementation period of 18 months. Compliance is, therefore, required by October 1, 2009. In order to support compliance with 10 CFR Part 26, Subpart I, the licensee is proposing to remove these work hour controls from Technical Specification 5.2.2.e at the Crystal River Unit 3 Nuclear Generating Plant.

Date of issuance: May 7, 2009.

Effective date: Date of issuance, to be implemented by October 1, 2009.

Amendment No.: 233.

Facility Operating License No. DPR-72: Amendment revises the technical specifications.

Date of initial notice in Federal Register: January 27, 2009 (74 FR 4773).

The Commission's related evaluation of the amendment is contained in a safety evaluation dated May 7, 2009.

No significant hazards consideration comments received: No.

Omaha Public Power District, Docket No. 50-285, Fort Calhoun Station, Unit No. 1, Washington County, Nebraska

Date of amendment request: July 2, 2008, as supplemented by e-mails dated February 18 and May 5, 2009.

Brief description of amendment: The amendment made administrative changes to the Technical Specifications (TSs) for the Fort Calhoun Station, Unit 1 (FCS). The proposed changes corrected several typographical errors and made administrative clarifications to the TSs. The NRC staff denies the heading changes to TS Limiting Condition for Operation (LCO) 2.13 Table 2-11 and TS LCO Table 2-1 which are not editorial or administrative in nature and, therefore, are not acceptable.

Date of issuance: May 12, 2009.

Effective date: As of its date of issuance and shall be implemented within 180 days.

Amendment No.: 259.

Renewed Facility Operating License No. DPR-40: The amendment revised the Technical Specifications.

Date of initial notice in Federal Register: November 4, 2008 (73 FR 65697). The supplemental e-mails dated February 18 and May 5, 2009, provided additional information that clarified the application, did not expand the scope of the application as originally noticed, and did not change the staff's original proposed no significant hazards consideration determination as published in the Federal Register on November 4, 2008 (73 FR 65697).

The Commission's related evaluation of the amendment is contained in a safety evaluation dated May 12, 2009.

No significant hazards consideration comments received: No.

PSEG Nuclear LLC, Docket Nos. 50-354, 50-272 and 50-311, Hope Creek Generating Station and Salem Nuclear Generating Station, Unit Nos. 1 and 2, Salem County, New Jersey

Date of application for amendments: July 21, 2008.

Brief description of amendments: The amendments delete the requirements related to plant staff working hours from Section 6.0, “Administrative Controls” of the respective plants' Technical Specifications (TSs). The requirements being deleted had been incorporated into the TSs based on the guidance in Generic Letter (GL) 82-12, “Nuclear Power Plant Staff Working Hours.” The guidance in GL 82-12 has been superseded by the requirements in Title 10 of the Code of Federal Regulations (10 CFR), Part 26, “Fitness for Duty Programs,” Subpart I, “Managing Fatigue.”

Date of issuance: May 14, 2009.

Effective date: As of the date of issuance, to be implemented by October 1, 2009.

Amendment Nos.: 177, 290 and 274.

Facility Operating License Nos. NPF-57, DPR-70 and DPR-75: The amendments revised the TSs and the Licenses.

Date of initial notice in Federal Register: October 7, 2008 (73 FR 58676).

The Commission's related evaluation of the amendments is contained in a Safety Evaluation dated May 14, 2009.

No significant hazards consideration comments received: No

Wolf Creek Nuclear Operating Corporation, Docket No. 50-482, Wolf Creek Generating Station, Coffey County, Kansas

Date of amendment request: August 18, 2008.

Brief description of amendment: The amendment revised Technical Specification (TS) 3.5.2, “ECCS [Emergency Core Cooling System]—Operating” requirements. The change is in accordance with Technical Specification Task Force (TSTF) Traveler TSTF-325-A, Revision 0, “ECCS Conditions and Required Actions with <100% Equivalent ECCS Flow.”

Date of issuance: May 15, 2009.

Effective date: Effective as date of issuance and shall be implemented within 90 days of the date of issuance.

Amendment No.: 182.

Renewed Facility Operating License No. NPF-42. The amendment revised the Operating License and Technical Specifications.

Date of initial notice in Federal Register: October 7, 2008 (73 FR 58680).

The Commission's related evaluation of the amendment is contained in a Safety Evaluation dated May 15, 2009.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—Primarily concerns/issues relating to technical and/or health and safety matters discussed or referenced in the applications.

2. Environmental—Primarily concerns/issues relating to matters discussed or referenced in the environmental analysis for the applications.

3. Miscellaneous—Does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007, (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC Meta-System Help Desk, which is available between 8 a.m. and 8 p.m., Eastern Time, Monday through Friday. The Meta-System Help Desk can be contacted by telephone at 1-866-672-7640 or by e-mail at MSHD.Resource@nrc.gov.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Virginia Electric and Power Company, Docket No. 50-280, Surry Power Station, Unit No. 1, Surry County, Virginia

Date of amendment request: May 5, 2009, as supplemented by letter dated May 6, 2009.

Brief Description of amendments: This amendment revised Technical Specifications (TSs) 6.4.Q, “Steam Generator (SG) Program,” and TS 6.6.3, “Steam Generator Tube Inspection Report,” to modify the interim alternate repair criteria for SG B tube repair to allow tubes with a permeability variation in the lowest one inch of the tube sheet to remain in service during Refueling Outage 22 (spring 2009) and the subsequent operating cycle. The amendment also revised reporting requirement TS 6.6.A.3, “SG Tube Inspection Report.”

Date of issuance: May 7, 2009.

Effective date: As of the date of issuance and shall be implemented within 30 days.

Amendment No.: 264.

Facility Operating License No. DPR-32: Amendment revises the license and TSs.

Public comments requested as to proposed no significant hazards consideration (NSHC): No.

The Commission's related evaluation of the amendment, finding of emergency circumstances, state consultation, and final no significant hazards consideration determination are contained in a safety evaluation dated May 7, 2009.

Attorney for licensee: Lillian M. Cuoco, Esq., Senior Counsel, Dominion Resources Services, Inc.,120 Tredegar St., RS-2, Richmond, VA 23219.

NRC Branch Chief: Melanie C. Wong.

Dated at Rockville, Maryland, this 21st day May 2009.
For the Nuclear Regulatory Commission.
Joseph G. Giitter,
Director, Division of Operating Reactor Licensing, Office of Nuclear Reactor Regulation.

[FR Doc. E9-12511 Filed 6-1-09; 8:45 am]

BILLING CODE 7590-01-P